FEDERAL COMMUNICATIONS COMMISSION

Notice of Public Information Collection(s) Being Reviewed by the Federal Communications Commission for Extension Under Delegated Authority, Comments Requested

April 18, 2008.

SUMMARY: As part of its continuing effort to reduce paperwork burden and as required by the Paperwork Reduction Act (PRA) of 1995 (44 U.S.C. 3501-3520), the Federal Communications Commission invites the general public and other Federal agencies to comment on the following information collection(s). Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before June 23, 2008. If you anticipate that you will be submitting comments, but find it difficult to do so within the period of time allowed by this notice, you should advise the contact listed below as soon as possible.

ADDRESSES: Submit your comments by e-mail to PRA@fcc.gov. Include in the e-mail the OMB control number of the collection. If you are unable to submit your comments by e-mail contact the person listed below to make alternate arrangements.

FOR FURTHER INFORMATION CONTACT: For additional information about the information collection(s) or to obtain a copy of the collection send an e-mail to PRA@fcc.gov and include the collection's OMB control number as shown in the SUPPLEMENTARY INFORMATION section below, or call [insert name and telephone number of appropriate PERM PRA analyst].

SUPPLEMENTARY INFORMATION: OMB Control Number: 3060-1064.

Title: Regulatory Fee Assessment True-Ups.

Form Number: N/A.

Type of Review: Extension without change of a currently approved collection.

Respondents: Businesses or other for-profit.

Number of Respondents and Responses: 1,650 respondents; 1,650 responses.

Estimated Time per Response: 15 minutes (0.25 hours).

Frequency of Response: Annual reporting requirement.

Obligation to Respond: Required to obtain or retain benefits.

Total Annual Burden: 413 hours.

Total Annual Cost: None.

Privacy Act Impact Assessment: No impact.

Nature and Extent of Confidentiality: There is no need for confidentiality. However, respondents may request materials or information submitted to the Commission be withheld from public inspection under 47 CFR 0.459 of the FCC's rules.

Needs and Uses: Section 9 of the Communications Act of 1934, as amended, 47 CFR Section 9, mandates that the Commission collect annual regulatory fees from its regulatees. To facilitate this effort, the Commission publishes various Public Notices and Fact Sheets each year that (1) announce when fees payments are due; (2) provide the current schedule of fee amounts for all service categories; and (3) provide guidance for making fee payments to the Commission.

Beginning in Fiscal Year (FY) 2004, the Commission now mails fee assessment notifications to cable television operators, broadcast licensees and commercial mobile radio service (CMRS) licensees on an annual basis. With these fee assessment notifications, we also provide regulatees with a “true-up” ¹ opportunity to contact the FCC to update or otherwise correct their assessed fee amounts well before the actual due date for payment of regulatory fees. Providing a “true-up” opportunity is necessary because the data sources that were used to generate the fee assessments may not have complete accuracy. The Commission offers several ways for regulatees to “true-up” their assessed fee amount. Regulatees may call the Commission's Financial Operations Help Desk. They may return their amended assessment notification or otherwise send written correspondence to a designated Commission mailing address. In addition, cable television operators and broadcast licensees may use a Commission-authorized Web site to key-in corrections to their assessment information.

¹ “True up” is to fit, place or shape accurately. See Webster's NewWorld Dictionary, Second College Edition. New York: Simon & Schuster, 1980.

Federal Communications Commission.
Marlene H. Dortch,
Secretary.

[FR Doc. E8-8941 Filed 4-23-08; 8:45 am]

BILLING CODE 6712-01-P